DEPARTMENT OF ENERGY

Federal Energy Regulatory Commission

[Project Nos. 2897-048, 2932-047, 2941-043, 2931-042, 2942-051]

Notice of Applications Accepted for Filing, Soliciting Motions To Intervene and Protests, Ready for Environmental Analysis, and Soliciting Comments, Terms and Conditions, Recommendations, and Prescriptions; S.D. Warren Company

Take notice that the following hydroelectric applications have been filed with the Commission and are available for public inspection:

a. Type of Applications: Surrender of License; Amendment of Licenses.

b. Project Nos.: 2897-048 (Surrender); 2932-047, 2941-043, 2931-042, 2942-051 (Amendments).

c. Date Filed: March 23, 2018.

d. Applicant: S.D. Warren Company.

e. Name of Projects: Saccarappa Hydroelectric Project (Surrender); Mallison Falls, Little Falls, Gambo, and Dundee Hydroelectric Projects (Amendments).

f. Location: On the Presumpscot River in Westbrook, Cumberland County, Maine.

g. Filed Pursuant to: Federal Power Act, 16 U.S.C. 791a-825r.

h. Applicant Contact: Barry Stemm, Engineering Manager, Sappi North America, P.O. Box 5000, Westbrook, ME 04098, (207) 856-4584, and Briana K. O'Regan, Esq., Assistant General Counsel, Sappi North America, 179 John Roberts Road, South Portland, ME 04106, (207) 854-7070.

i. FERC Contact: Dr. Jennifer Ambler, (202) 502-8586, or jennifer.ambler@ferc.gov.

j. Deadline for filing motions to intervene and protests, comments, terms and conditions, recommendations, and prescriptions: 30 Days from the issuance date of this notice.

The Commission strongly encourages electronic filing. Please file motions to intervene and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-2897-048, P-2932-047, P-2941-043, P-2931-042, and/or P-2942-051, as appropriate.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Project Facilities:

The Saccarappa Project (P-2897-048) consists of two 10- to 12-foot-high concrete diversion dams, referred to as eastern and western spillways, separated by an island, a headgate structure, a concrete-lined forebay, and a powerhouse containing three turbine-generator units with a total rated generating capacity of 1,350 kilowatts (kW). The project also includes a 345-foot-long tailrace channel and two bypass reaches measuring 475 and 390 feet long extending from the respective spillway to the downstream end of the tailrace channel.

The Mallison Falls Project (P-2932-047) includes a 358-foot-long, 14-foot-high concrete, masonry and cut granite diversion dam, a headgate structure, an intake power canal, and a powerhouse containing two turbine-generator units with a total rated generating capacity of 800 kW. The Mallison Falls Dam creates an 8-acre impoundment. The project has a 675-foot-long bypass reach between the dam and the powerhouse tailwaters.

The Little Falls Project (P-2941-043) includes a 310-foot-long, 14-foot-high L-shaped concrete and masonry dam that creates a 29-acre impoundment extending 1.7 miles to the tailwaters of the Gambo Project, and a powerhouse integral with the dam, containing four turbine-generator units with a total rated generating capacity of 1,000 kW. The project has a 300-foot-long bypass reach between the upper section of the dam and the powerhouse tailwaters.

The Gambo Project (P-2931-042) includes a 300-foot-long, 24-foot-high concrete dam, a headgate structure, an intake and power canal, and a powerhouse containing four turbine-generator units with a total rated generating capacity of 1,900 kW. The Gambo Dam creates a 151-acre impoundment. The project has a 300-foot-long bypass reach between the dam and the powerhouse tailwaters.

The Dundee Project (P-2942-051) includes a 1,492-foot-long, 50-foot-high concrete dam that creates a 197-acre impoundment, extending 1.7 miles upstream to the tailwaters of the North Gorham Project (P-2519), and a powerhouse integral with the dam, containing three turbine-generator units with a total rated generating capacity of 2,400 kW. The Dundee Project also includes a 1,075-foot-long tailrace channel, which creates a bypass reach.

l. Description of Requests:

For the Saccarappa Project (P-2897-048):

The licensee filed an application to surrender its license for the Saccarappa Project. The licensee proposes to: (1) Remove the existing powerhouse and other ancillary structures; (2) remove the eastern and western spillways; (3) partially fill the existing tailrace; (4) construct a double Denil fishway within the filled tailrace area to provide fish passage over the lower falls; (5) alter and repair the tailrace guard wall to support the operation of the Denil; (6) construct a fish counting facility at the exit of the Denil; and (7) modify the bedrock in the eastern and western channels to facilitate nature-like fish passage over both the eastern and western sections of the upper falls.

For the Mallison Falls (P-2932-047), Little Falls (P-2941-043), Gambo (P-2931-042), and Dundee (P-2942-051) Projects:

Concurrent with the request to surrender the license for the Saccarappa Project as described above, the licensee proposes to amend its upstream project licenses for the Mallison Falls, Little Falls, Gambo, and Dundee Projects to: (1) Amend the Mallison Falls Project license (the next upstream project from Saccarappa) to include the new Denil fish passage facilities built at the Saccarappa Dam site; (2) extend by ten years, until 2053, the license expiration dates for its four upstream projects (Mallison Falls, Little Falls, Gambo, and Dundee Projects); and (3) remove all fish passage requirements from the Gambo and Dundee licenses.

The proposed actions reflect conditions agreed to by parties to a Settlement Agreement executed on November 15, 2016, as amended on March 7, 2018, between the licensee and the U.S. Department of the Interior and the U.S. Fish and Wildlife Service; Maine Department of Marine Resources; Conservation Law Foundation; Friends of the Presumpscot River; and City of Westbrook, Maine.

These applications have been accepted for filing and are now ready for environmental analysis.

m. This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction in the Commission's Public Reference Room located at 888 First Street NE, Room 2A, Washington, DC 20426, or by calling (202) 502-8371.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title COMMENTS, PROTEST, MOTION TO INTERVENE, RECOMMENDATIONS, TERMS AND CONDITIONS, or PRESCRIPTIONS, as applicable; (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). All comments, motions to intervene, or protests should relate to the licensee's requests that are the subject of this notice. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments: Federal, state, and local agencies are invited to file comments on the described proceeding. If any agency does not file comments within the time specified for filing comments, it will be presumed to have no comments.

Dated: May 11, 2018.
Kimberly D. Bose,
Secretary.

[FR Doc. 2018-10755 Filed 5-18-18; 8:45 am]

BILLING CODE 6717-01-P